DEPARTMENT OF ENERGY

Federal Energy Regulatory Commission

Combined Notice of Filings #2

July 20, 2007.

Take notice that the Commission received the following electric rate filings:

Docket Numbers: ER07-1146-000.

Applicants: Duke Energy Carolinas, LLC.

Description: Duke Energy Carolinas, LLC submits proposed changes to its open access transmission tariff, FERC Electric Tariff, Fifth Revised Volume 4 in accordance w/ FERC's Order 890.

Filed Date: July 11, 2007.

Accession Number: 20070713-0058.

Comment Date: 5 p.m. Eastern Time on Wednesday, August 01, 2007.

Docket Numbers: ER07-1148-000.

Applicants: PurEnergy Caledonia, LLC.

Description: PurEnergy Caledonia LLC submits a notice of cancellation of its Rate Schedule 1 effective September 11, 2007.

Filed Date: July 13, 2007.

Accession Number: 20070717-0183.

Comment Date: 5 p.m. Eastern Time on Friday, August 03, 2007.

Docket Numbers: ER07-1149-000.

Applicants: Idaho Power Company.

Description: Informational Filing of Idaho Power Company.

Filed Date: July 13, 2007.

Accession Number: 20070713-5065.

Comment Date: 5 p.m. Eastern Time on Friday, August 03, 2007.

Docket Numbers: ER07-1162-000.

Applicants: Avista Corporation.

Description: Avista Corp submits revised tariff sheets for its pending FERC Electric Tariff, Revised Volume 4 pursuant to 18 CFR, Part 35, section 205 of the Federal Power Act.

Filed Date: July 16, 2007.

Accession Number: 20070718-0122.

Comment Date: 5 p.m. Eastern Time on Monday, August 06, 2007.

Docket Numbers: ER07-1163-000.

Applicants: Puget Sound Energy, Inc.

Description: Puget Sound Energy, Inc submits proposed revisions to its Open Access Transmission Tariff, FERC Electric Tariff, Eighth Revised Volume 7.

Filed Date: July 16, 2007.

Accession Number: 20070718-0115.

Comment Date: 5 p.m. Eastern Time on Monday, August 06, 2007.

Docket Numbers: ER07-1164-000.

Applicants: Avista Corporation.

Description: Avista Corp et al submits revised sections 30.3 to their respective Open Access Transmission Tariffs with an effective date of July 13, 2007.

Filed Date: July 13, 2007.

Accession Number: 20070717-0175.

Comment Date: 5 p.m. Eastern Time on Friday, August 03, 2007.

Docket Numbers: ER07-1165-000.

Applicants: Idaho Power Corporation.

Description: Avista Corp et al submits revised sections 30.3 to their respective Open Access Transmission Tariffs with an effective date of July 13, 2007.

Filed Date: July 13, 2007.

Accession Number: 20070717-0175.

Comment Date: 5 p.m. Eastern Time on Friday, August 03, 2007.

Docket Numbers: ER07-1166-000.

Applicants: NorthWestern Corporation.

Description: Avista Corp et al submits revised sections 30.3 to their respective Open Access Transmission Tariffs with an effective date of July 13, 2007.

Filed Date: July 13, 2007.

Accession Number: 20070717-0175.

Comment Date: 5 p.m. Eastern Time on Friday, August 03, 2007.

Docket Numbers: ER07-1167-000.

Applicants: PacifiCorp.

Description: Avista Corp et al submits revised sections 30.3 to their respective Open Access Transmission Tariffs with an effective date of July 13, 2007.

Filed Date: July 13, 2007.

Accession Number: 20070717-0175.

Comment Date: 5 p.m. Eastern Time on Friday, August 03, 2007.

Docket Numbers: ER07-1168-000.

Applicants: Portland General Electric Company.

Description: Avista Corp et al submits revised sections 30.3 to their respective Open Access Transmission Tariffs with an effective date of July 13, 2007.

Filed Date: July 13, 2007.

Accession Number: 20070717-0175.

Comment Date: 5 p.m. Eastern Time on Friday, August 03, 2007.

Docket Numbers: ER07-1169-000.

Applicants: Puget Sound Energy, Inc.

Description: Avista Corp et al submits revised sections 30.3 to their respective Open Access Transmission Tariffs with an effective date of July 13, 2007.

Filed Date: July 13, 2007.

Accession Number: 20070717-0175.

Comment Date: 5 p.m. Eastern Time on Friday, August 03, 2007.

Docket Numbers: ER07-1170-000.

Applicants: Maine Public Service Company.

Description: Maine Public Service Company submits revisions to its open access transmission tariff.

Filed Date: July 13, 2007.

Accession Number: 20070717-0174.

Comment Date: 5 p.m. Eastern Time on Friday, August 03, 2007.

Docket Numbers: ER07-1171-000.

Applicants: Arizona Public Service Company.

Description: Arizona Public Service Company submits amendments to its Open Access Transmission Tariff to reflect clarifications and modifications of the requirements implemented under Order 890 with an effective date of July 13, 2007.

Filed Date: July 13, 2007.

Accession Number: 20070717-0178.

Comment Date: 5 p.m. Eastern Time on Friday, August 03, 2007.

Docket Numbers: ER07-1172-000.

Applicants: Idaho Power Company.

Description: Idaho Power Company submits certain modifications to non-rate terms and conditions in its Order 590 pro forma Open Access Transmission Tariff with an effective date of July 13, 2007.

Filed Date: July 13, 2007.

Accession Number: 20070717-0179.

Comment Date: 5 p.m. Eastern Time on Friday, August 03, 2007.

Docket Numbers: ER07-1173-000.

Applicants: Black Hills Power, Inc.

Description: Black Hills Power Inc, on behalf of itself and Basin Electric Power Cooperative et al submits revised Sheets 130 et al of the Transmission Providers' joint open access transmission tariff.

Filed Date: July 13, 2007.

Accession Number: 20070717-0176.

Comment Date: 5 p.m. Eastern Time on Friday, August 03, 2007.

Docket Numbers: ER07-1174-000.

Applicants: MATL, LLP.

Description: Montana Alberta Tie Ltd. submits a revised Open Access Transmission Tariff in compliance with the Commission's Order 890 pursuant to section 206 of the Federal Power Act.

Filed Date: July 13, 2007.

Accession Number: 20070717-0191.

Comment Date: 5 p.m. Eastern Time on Friday, August 03, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the web site that enables subscribers to receive email notification when a document is added to a subscribed dockets(s). For assistance with any FERC Online service, please e-mail FERCOnlineSupport@ferc.gov or call (866) 208-3676 (toll free). For TTY, call (202) 502-8659.

Kimberly D. Bose,
Secretary.

[FR Doc. E7-14727 Filed 7-30-07; 8:45 am]

BILLING CODE 6717-01-P